DEPARTMENT OF LABOR

Employment and Training Administration

[TA-W-83,128]

Catalyst Paper, Inc.; Formerly Known as the Apache Railway Company; Currently Known as the Snowflake Community Foundation Snowflake, Arizona; Amended Certification Regarding Eligibility To Apply for Worker Adjustment Assistance

In accordance with Section 223 of the Trade Act of 1974, as amended (“Act”), 19 U.S.C. 2273, the Department of Labor (Department) issued a Certification of Eligibility to Apply for Worker Adjustment Assistance on January 10, 2014, applicable to workers of Catalyst Paper (Snowflake) Inc., a subsidiary of Catalyst Paper Holdings Inc., Snowflake, Arizona. The Department's notice of determination was published in the Federal Register on January 28, 2014 (79 FR 4502). The workers are engaged in the production of uncoated mechanical printing papers and newsprint.

The State of Arizona Workforce Office reported that workers of the subject firm, employed under its former name, The Apache Railway Company, were excluded from this certification and requested inclusion of the workers.

The Department confirmed that The Apache Railway Company was acquired by Catalyst Paper, Inc. in 2012. Furthermore, The Apache Railway Company was acquired by The Snowflake Community Foundation in 2013. Therefore, workers who were employed by The Apache Railway Company and/or The Snowflake Foundation are part of the worker group that received a certification under this petition.

The amended notice applicable to TA-W-83,128 is hereby issued as follows:

All workers of Catalyst Paper, Inc., formerly known as The Apache Railway Company, currently known as The Snowflake Foundation, Snowflake, Arizona who became totally or partially separated from employment on or after October 1, 2012 through January 10, 2016, and all workers in the group threatened with total or partial separation from employment on date of certification through two years from the date of certification, are eligible to apply for adjustment assistance under Chapter 2 of Title II of the Trade Act of 1974, as amended.

Signed in Washington, DC, this 14th day of July 2014.
Del Min Amy Chen,
Certifying Officer, Office of Trade Adjustment Assistance.

[FR Doc. 2014-17534 Filed 7-24-14; 8:45 am]

BILLING CODE 4510-FN-P